DEPARTMENT OF HEALTH AND HUMAN SERVICES

Office of the Secretary

Delegation of Authorities

Notice is hereby given that I have delegated to the Commissioner of Food and Drugs (the Commissioner) the authorities vested in the Secretary of the Department of Health and Human Services under sections 102(b)(2), (c); 103(b), (c), (d), (h); 104; 105(b); 106(b), (c); 113(b); 114(d); 115; 201(c); 202(b); 204; 205(b)(2), (c); 206(b); 207(b); 304(b); 305; 306(b); 308; and 309 of the FDA Food Safety Modernization Act (FSMA or the Act), which relate to the functions of the Food and Drug Administration.

This authority may be redelegated. This authority will be exercised in accordance with the Department of Health and Human Services applicable policies, procedures, guideline, and regulations.

I hereby ratify and affirm any actions taken the Commissioner, or the Commissioner's subordinates, that involved the exercise of the authority delegated herein prior to the effective date of this delegation.

This delegation is effective upon date of signature.

Sylvia M. Burwell,
Secretary.

[FR Doc. 2016-21504 Filed 9-7-16; 8:45 am]

BILLING CODE P